DEPARTMENT OF ENERGY

Federal Energy Regulatory Commission

Combined Notice of Filings #1

Take notice that the Commission received the following electric rate filings:

Docket Numbers: ER18-1182-009.

Applicants: System Energy Resources, Inc.

Description: Compliance filing: SERI Compliance (ER18-1182 et al.) to be effective 11/1/2023.

Filed Date: 5/17/24.

Accession Number: 20240517-5068.

Comment Date: 5 p.m. ET 6/7/24.

Docket Numbers: ER11-2036-015; ER19-1795-002; ER19-1798-002; ER19-1793-002; ER19-1797-002; ER19-1796-002; ER19-1799-002; ER18-2327-007; ER19-902-003; ER19-1597-005; ER20-902-002; ER20-1593-005; ER20-1594-004; ER20-1596-005; ER20-1597-005; ER20-1599-005; ER20-1620-003; ER21-2767-002; ER22-414-003; ER22-1518-002; ER23-495-004; ER23-1631-001.

Applicants: Cavalier Solar A, LLC, AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing, AES Integrated Energy, LLC, Valcour Wind Energy, LLC, Riverhead Solar Farm, LLC, AES Laurel Mountain, LLC, Valcour Wethersfield Windpark, LLC, Valcour Chateaugay Windpark, LLC, Valcour Clinton Windpark, LLC, Valcour Altona Windpark, LLC, Valcour Ellenburg Windpark, LLC, Valcour Bliss Windpark, LLC.

Description: Amendment to June 28, 2023 Triennial Market Power Analysis for Northeast Region of AES Laurel Mountain, LLC, et al.

Filed Date: 5/15/24.

Accession Number: 20240515-5221.

Comment Date: 5 p.m. ET 6/5/24.

Docket Numbers: ER23-2935-004.

Applicants: Midcontinent Independent System Operator, Inc., Northern Indiana Public Service Company LLC.

Description: Tariff Amendment: Midcontinent Independent System Operator, Inc. submits tariff filing per 35.17(b): 2024-05-17_Additional Amendment NIPSCO Request for Depreciation Rates to be effective 8/1/2023.

Filed Date: 5/17/24.

Accession Number: 20240517-5018.

Comment Date: 5 p.m. ET 6/7/24.

Docket Numbers: ER24-679-001.

Applicants: Duke Energy Florida, LLC, Duke Energy Carolinas, LLC.

Description: Compliance filing: Duke Energy Florida, LLC submits tariff filing per 35: DEF Second Compliance Filing Containing Revisions to Attachment J to Joint OATT to be effective 4/1/2024.

Filed Date: 5/14/24.

Accession Number: 20240514-5199.

Comment Date: 5 p.m. ET 6/4/24.

Docket Numbers: ER24-722-002.

Applicants: Oklahoma Gas and Electric Company.

Description: Compliance filing: Compliance to 49 to be effective N/A.

Filed Date: 5/17/24.

Accession Number: 20240517-5074.

Comment Date: 5 p.m. ET 6/7/24.

Docket Numbers: ER24-2045-000.

Applicants: PJM Interconnection, L.L.C.

Description: Compliance filing: Order Nos. 2023 and 2023-A Compliance Filing to be effective N/A.

Filed Date: 5/16/24.

Accession Number: 20240516-5155.

Comment Date: 5 p.m. ET 6/6/24.

Docket Numbers: ER24-2046-000.

Applicants: Midcontinent Independent System Operator, Inc.

Description: Compliance filing: 2024-05-16_Compliance Filing for Order Nos. 2023 and 2023-A to be effective 6/1/2025.

Filed Date: 5/16/24.

Accession Number: 20240516-5164.

Comment Date: 5 p.m. ET 6/6/24.

Docket Numbers: ER24-2047-000.

Applicants: Clearwater Wind East, LLC.

Description: Tariff Amendment: Notice of Cancellation of Market-Based Rate Tariff to be effective 5/17/2024.

Filed Date: 5/16/24.

Accession Number: 20240516-5165.

Comment Date: 5 p.m. ET 6/6/24.

Docket Numbers: ER24-2048-000.

Applicants: Frontier Utilities Northeast LLC.

Description: Tariff Amendment: Notice of Cancellation of Market-Based Rate Tariff to be effective 5/17/2024.

Filed Date: 5/16/24.

Accession Number: 20240516-5173.

Comment Date: 5 p.m. ET 6/6/24.

Docket Numbers: ER24-2049-000.

Applicants: Midcontinent Independent System Operator, Inc.

Description: § 205(d) Rate Filing: 2024-05-17_SA 4290 NIPSCO-Merrillville Solar GIA (J1386) to be effective 7/17/2024.

Filed Date: 5/17/24.

Accession Number: 20240517-5031.

Comment Date: 5 p.m. ET 6/7/24.

Docket Numbers: ER24-2050-000.

Applicants: American Electric Power Service Corporation, PJM Interconnection, L.L.C.

Description: § 205(d) Rate Filing: American Electric Power Service Corporation submits tariff filing per 35.13(a)(2)(iii: AEP submits one amended Facilities Agreement re: ILDSA, SA No. 1336 to be effective 7/17/2024.

Filed Date: 5/17/24.

Accession Number: 20240517-5034.

Comment Date: 5 p.m. ET 6/7/24.

Docket Numbers: ER24-2051-000.

Applicants: PJM Interconnection, L.L.C.

Description: § 205(d) Rate Filing: Original GIA Service Agreement No. 7235, Non-Queue No. NQ-212 to be effective 4/18/2024.

Filed Date: 5/17/24.

Accession Number: 20240517-5040.

Comment Date: 5 p.m. ET 6/7/24.

Docket Numbers: ER24-2052-000.

Applicants: Southwest Power Pool, Inc.

Description: § 205(d) Rate Filing: 4225 Algodon Solar Energy & SPS Facilities Service Agr to be effective 7/16/2024.

Filed Date: 5/17/24.

Accession Number: 20240517-5041.

Comment Date: 5 p.m. ET 6/7/24.

Docket Numbers: ER24-2053-000.

Applicants: Southern California Edison Company.

Description: § 205(d) Rate Filing: 1stAmend IFA&DSA, Blacksand Partners LP (WDT163/SA135-136) + DSA Removal ETariff to be effective 5/18/2024.

Filed Date: 5/17/24.

Accession Number: 20240517-5046.

Comment Date: 5 p.m. ET 6/7/24.

Docket Numbers: ER24-2054-000.

Applicants: Southern California Edison Company.

Description: § 205(d) Rate Filing: 3rd Amended LGIA Rexford Solar Farm TOT896 SA No. 249 to be effective 5/18/2024.

Filed Date: 5/17/24.

Accession Number: 20240517-5072.

Comment Date: 5 p.m. ET 6/7/24.

Docket Numbers: ER24-2055-000.

Applicants: Alabama Power Company, Georgia Power Company, Mississippi Power Company.

Description: § 205(d) Rate Filing: Alabama Power Company submits tariff filing per 35.13(a)(2)(iii: Saturn Solar 1 LGIA Filing to be effective 5/8/2024.

Filed Date: 5/17/24.

Accession Number: 20240517-5086.

Comment Date: 5 p.m. ET 6/7/24.

Docket Numbers: ER24-2056-000.

Applicants: Alabama Power Company, Georgia Power Company, Mississippi Power Company.

Description: § 205(d) Rate Filing: Alabama Power Company submits tariff filing per 35.13(a)(2)(iii: Saturn Solar 2 LGIA Filing to be effective 5/8/2024.

Filed Date: 5/17/24.

Accession Number: 20240517-5087.

Comment Date: 5 p.m. ET 6/7/24.

Docket Numbers: ER24-2057-000.

Applicants: Duke Energy Carolinas, LLC.

Description: § 205(d) Rate Filing: DEC—Revised Depreciation Rate Schedule No. 514 to be effective 1/15/2024.

Filed Date: 5/17/24.

Accession Number: 20240517-5088.

Comment Date: 5 p.m. ET 6/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 17, 2024.
Debbie-Anne A. Reese,
Acting Secretary.

[FR Doc. 2024-11379 Filed 5-22-24; 8:45 am]

BILLING CODE 6717-01-P